DEPARTMENT OF HEALTH AND HUMAN SERVICES

Centers for Disease Control and Prevention

[60Day-11-11BP]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Carol Walker, Acting CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Community-based Organization (CBO) Monitoring and Evaluation of WILLOW (CMEP-WILLOW)—New—National Center for HIV/AIDS, Viral Hepatitis, STD, and TB Prevention, Centers for Disease Control and Prevention (CDC).

Background and Brief Description

CDC began formally partnering with CBOs in the late 1980s to expand the reach of HIV prevention efforts. CBOs were, and continue to be, recognized as important partners in HIV prevention because of their history and credibility with target populations and their access to groups that may not be easily reached. Over time, CDC's program for HIV prevention by CBOs has grown in size, scope, and complexity to respond to changes in the epidemic, including the diffusion and implementation of Effective Behavioral Interventions (EBIs) for HIV prevention.

CDC's EBIs have been shown to be effective under controlled research environments, but there is limited data on intervention implementation and client outcomes in real-world settings (as implemented by CDC-funded CBOs). The purpose of CMEP-WILLOW is to (a) assess the fidelity of the implementation of the selected intervention at the CBO; and (b) improve the performance of CDC-funded CBOs delivering the WILLOW intervention by monitoring changes in clients' self-reported attitudes and beliefs regarding HIV and HIV transmission risk behaviors after participating in WILLOW. The project also plans to conduct process monitoring of the delivery of the intervention in terms of recruitment, retention, and data collection, entry, and management. Four CBOs will receive supplemental funding under PS 10-1003 over a five-year period to participate in CMEP-WILLOW.

CBOs will conduct outcome and process monitoring of the project between July 1, 2011 and June 30, 2015. They will recruit 400 women living with HIV who are 18 years of age and older, have known their positive HIV status for at least 6 months, and are enrolled in the WILLOW intervention to participate in CMEP-WILLOW. Each participant will complete a 20 minute, self administered, computer based interview prior to their participation in the WILLOW intervention and an 18 minute, self administered, computer based interview at two follow-up time points (90- and 180-days following the WILLOW intervention) to assess their HIV-related attitudes and behavioral risks. CBOs will be expected to retain 80% of these participants at both follow-up time points.

Throughout the project, funded CBOs will be responsible for managing the daily procedures of CMEP-WILLOW to ensure that all required activities are performed, all deadlines are met, and quality assurance plans, policies and procedures are upheld. CBOs will be responsible for participating in all CDC-sponsored grantee meetings related to CMEP-WILLOW.

Findings from this project will be primarily used by the participating CBOs. The CBOs may use the findings to (a) better understand if the outcomes are different across demographic and behavioral risk groups as well as agency and program model characteristics; (b) improve the future implementation, management, and quality of WILLOW; and (c) guide their overall HIV prevention programming for women living with HIV. CDC and other organizations interested in behavioral outcome monitoring of WILLOW or similar HIV prevention interventions can also benefit from lessons learned through this project.

Estimated Annualized Burden Hours
Respondent | Form | Number of respondents | Number of responses per respondent | Average burden response (in Hours) | Total burden (in Hours)
General population | Screener | 400 | 1 | 2/60 | 13
General population | Baseline Interview | 400 | 1 | 20/60 | 133
General population | 90-day Follow-up Interview | 320 | 1 | 18/60 | 96
General population | 180-day Follow-up Interview | 320 | 1 | 18/60 | 96
Total |  |  |  |  | 338

Dated: January 26, 2011.
Carol E. Walker,
Acting Reports Clearance Officer, Centers for Disease Control and Prevention.

[FR Doc. 2011-2423 Filed 2-2-11; 8:45 am]

BILLING CODE 4163-18-P